OFFICE OF PERSONNEL MANAGEMENT

5 CFR Part 532

RIN 3206-AN18

Prevailing Rate Systems; Redefinition of the Harrisburg, PA and Scranton-Wilkes-Barre, PA, Appropriated Fund Federal Wage System Wage Areas

AGENCY: U.S. Office of Personnel Management.

ACTION: Proposed rule with request for comments.

SUMMARY: The U.S. Office of Personnel Management (OPM) is issuing a proposed rule that would redefine the geographic boundaries of the Harrisburg, PA, and Scranton-Wilkes-Barre, PA, appropriated fund Federal Wage System (FWS) wage areas. The proposed rule would redefine Montour County, PA, from the Harrisburg wage area to the Scranton-Wilkes-Barre wage area. This change is based on a recent consensus recommendation of the Federal Prevailing Rate Advisory Committee (FPRAC) to best match the county proposed for redefinition to a nearby FWS survey area.

DATES: We must receive comments on or before August 31, 2015.

ADDRESSES: You may submit comments, identified by “RIN 3206-AN18,” using any of the following methods:

Federal eRulemaking Portal: http://www.regulations.gov. Follow the instructions for submitting comments.

Mail: Brenda L. Roberts, Deputy Associate Director for Pay and Leave, Employee Services, U.S. Office of Personnel Management, Room 7H31, 1900 E Street NW., Washington, DC 20415-8200.

Email: pay-leave-policy@opm.gov.

FOR FURTHER INFORMATION CONTACT: Madeline Gonzalez, (202) 606-2858; email pay-leave-policy@opm.gov; or FAX: (202) 606-4264.

SUPPLEMENTARY INFORMATION: OPM is issuing a proposed rule that would redefine the geographic boundaries of the Harrisburg, PA, and Scranton-Wilkes-Barre, PA, appropriated fund FWS wage areas. The proposed rule would redefine Montour County, PA, from the Harrisburg wage area to the Scranton-Wilkes-Barre wage area.

OPM considers the following regulatory criteria under 5 CFR 532.211 when defining FWS wage area boundaries:

(i) Distance, transportation facilities, and geographic features;

(ii) Commuting patterns; and

(iii) Similarities in overall population, employment, and the kinds and sizes of private industrial establishments.

In addition, OPM regulations at 5 CFR 532.211 do not permit splitting Metropolitan Statistical Areas (MSAs) for the purpose of defining a wage area, except in very unusual circumstances.

Columbia and Montour Counties, PA, comprise the Bloomsburg-Berwick, PA MSA. The Bloomsburg-Berwick MSA is split between the Harrisburg and Scranton-Wilkes-Barre wage areas. Columbia County is part of the area of application of the Scranton-Wilkes-Barre wage area, and Montour County is part of the area of application of the Harrisburg wage area.

Based on an analysis of the regulatory criteria for Columbia County, the core county in the Bloomsburg-Berwick MSA, the entire Bloomsburg-Berwick MSA would be defined to the Scranton-Wilkes-Barre wage area. When measuring to cities and host installations, the distance criterion favors the Scranton-Wilkes-Barre wage area more than the Harrisburg wage area. The commuting patterns criterion also favors the Scranton-Wilkes-Barre wage area. Columbia County does not resemble one survey area more than another survey area in terms of the overall population, employment, and the kinds and sizes of private industrial establishments criteria.

Based on this analysis, we believe Columbia County is appropriately defined to the Scranton-Wilkes-Barre wage area. OPM regulations at 5 CFR 532.211 permit splitting MSAs only in very unusual circumstances. There appear to be no unusual circumstances that would permit splitting the Bloomsburg-Berwick MSA. To comply with OPM regulations not to split MSAs, Montour County would be redefined to the Scranton-Wilkes-Barre wage area. There are currently no FWS employees working in Montour County.

FPRAC, the national labor-management committee responsible for advising OPM on matters concerning the pay of FWS employees, recommended this change by consensus. This change would be effective on the first day of the first applicable pay period beginning on or after 30 days following publication of the final regulations.

Regulatory Flexibility Act

I certify that these regulations would not have a significant economic impact on a substantial number of small entities because they would affect only Federal agencies and employees.

List of Subjects in 5 CFR Part 532

Administrative practice and procedure, Freedom of information, Government employees, Reporting and recordkeeping requirements, Wages.

U.S. Office of Personnel Management.
Beth F. Cobert,
Acting Director.

Accordingly, the U.S. Office of Personnel Management is proposing to amend 5 CFR part 532 as follows:

PART 532—PREVAILING RATE SYSTEMS

1. The authority citation for part 532 continues to read as follows:

Authority: 5 U.S.C. 5343, 5346; § 532.707 also issued under 5 U.S.C. 552.

Appendix C to Subpart B of Part 532—Appropriated Fund Wage and Survey Areas

2. Appendix C to subpart B is amended by revising the wage area listings for the Harrisburg, PA, and Scranton-Wilkes-Barre, PA, wage areas to read as follows:

* * * * *

PENNSYLVANIA
Harrisburg
Survey Area
Pennsylvania:
Cumberland
Dauphin
Lebanon
York
Area of Application. Survey area plus:
Pennsylvania:
Adams
Berks
Juniata
Lancaster
Lycoming (Allenwood Federal Prison Camp portion only)
Mifflin
Northumberland
Perry
Schuylkill
Snyder
Union
* * * * *
Scranton-Wilkes-Barre
Survey Area
Pennsylvania:
Lackawanna
Luzerne
Monroe
Area of Application. Survey area plus:
Pennsylvania:
Bradford
Columbia
Lycoming (Excluding Allenwood Federal Prison Camp)
Montour
Sullivan
Susquehanna
Wayne
Wyoming

* * * * *

[FR Doc. 2015-18746 Filed 7-30-15; 8:45 am]

BILLING CODE 6325-39-P